DEPARTMENT OF HEALTH AND HUMAN SERVICES

Administration for Children and Families

[OMB #: 0970-0598]

Proposed Information Collection Activity; National Human Trafficking Hotline (NHTH) Performance Indicators

AGENCY: Office on Trafficking in Persons, Administration for Children and Families, U.S. Department of Health and Human Services.

ACTION: Request for public comments.

SUMMARY: The Administration for Children and Families (ACF) is requesting a 3-year extension of an approved information collection: National Human Trafficking Hotline (NHTH) Performance Indicators (Office of Management and Budget (OMB) Number: 0970-0598, expiration October 31, 2025). There are no changes requested to the form.

DATES: Comments due August 25, 2025. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: Section 107(b)(1)(B)(ii) of the Trafficking Victims Protection Act (TVPA) of 2000, codified at 22 U.S.C. 7105(b)(1)(B)(ii), authorizes the Secretary of the U.S. Department of Health and Human Services (HHS) to make grants for a national communication system, the NHTH, to assist victims of severe forms of trafficking in persons in communicating with service providers. The objectives of the NHTH are to:

1. Operate the NHTH's telephone, text services, chat services, and website via a coordinated national communications system available 24 hours a day;

2. Provide timely information and service referrals to victims of human trafficking;

3. Notify law enforcement and child welfare agencies of potential cases of human trafficking, as required by law and in other situations where appropriate;

4. Establish and maintain a comprehensive online directory of community-based service providers across the U.S. and its territories.

The NHTH grant recipient collects information about signalers (individuals who contact the hotline) and from signalers regarding potential human trafficking situations and potential victims. The NHTH grant recipient summarizes and reports this information to HHS in the aggregate. HHS uses this information to assess the extent to which the grant recipient fulfills required program activities and to:

• Continuously monitor and mitigate factors impacting NHTH operations;

• Disseminate insights to inform anti-trafficking strategies and policies; and

• Provide information to congress, other federal agencies, stakeholders, and the public on the aggregate outcomes of NHTH operations.

Respondents: Potential victims, representatives of governmental entities, law enforcement, first responders, members of the community, representatives of nongovernmental entities supporting individuals in the U.S. who may have been subjected to severe forms of trafficking in persons who utilize the NHTH as signalers.

Annual Burden Estimates

The estimated number of respondents has been decreased to reflect review of operational data reviewed from the past five years. The updated estimate is an average number of respondents over the next three years based on that most recent data. The estimated time per response remains consistent but overall total estimates are lower due to the reduction in estimated number of respondents.

Instrument | Total number of respondents | Total number of responses per respondent | Average burden hours per response | Total burden hours | Annual burden hours
NHTH Performance Indicators | 51,000 | 1 | 0.5 | 76,500 | 25,500
NHTH Grant Recipient | 1 | 15 | 24.13 | 362 | 121
Estimated Total Annual Burden Hours |  |  |  |  | 25,621

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 22 U.S.C. 7105

Mary C. Jones,
ACF/OPRE Certifying Officer.

[FR Doc. 2025-11797 Filed 6-25-25; 8:45 am]

BILLING CODE 4184-47-P